DEPARTMENT OF HEALTH AND HUMAN SERVICES

Centers for Disease Control and Prevention

[60Day-15-0920]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to Leroy A. Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Data Collection Through Web Based Surveys for Evaluating Act Against AIDS Social Marketing Campaign Phases Targeting Consumers (Generic ICR, OMB# 0920-0920, Expires 2/28/2015)—Extension—National Center for HIV/AIDS, Viral Hepatitis, STD and TB Prevention (NCHHSTP), Centers for Disease Control and Prevention (CDC).

Background and Brief Description

In response to the continued HIV epidemic in our country, CDC has launched Act Against AIDS, a 5-year, multifaceted communication campaign to reduce HIV incidence in the United States. CDC plans to release the campaign in phases, with some of the phases running concurrently. Each phase of the campaign will use mass media and direct-to-consumer channels to deliver HIV prevention and testing messages. Some components of the campaign will be designed to provide basic education and increase awareness of HIV/AIDS among the general public, and others will be targeted to specific subgroups or communities at greatest risk of infection. The current study addresses the need to assess the effectiveness of these social marketing messages aimed at increasing HIV awareness and delivering HIV prevention and testing messages among at-risk populations.

This extension of an ongoing study will evaluate the Act Against AIDS (AAA) social marketing campaign aimed at increasing HIV/AIDS awareness, increasing prevention behaviors, and improving HIV testing rates among consumers. A total of 12,000 respondents were originally approved for this generic ICR (0920-0920) and since the original approval date, 1,250 respondents have participated in the surveys under the following mini ICRs: 0920-13AHP; 0920-13YR and 0920-13DD. The information collected from each of the data collections were used to evaluate specific AAA campaign phases. We are requesting additional time to continue to survey other AAA target audiences and campaign phases and measuring exposure to each phase of the campaign and interventions implemented under AAA. Through this extension, we plan to reach the remaining approved 10,750 respondents. In order to obtain the remaining respondents, we anticipate screening approximately 17,915 individuals.

Depending on the target audience for the campaign phase, the study screener will vary. The study screener may address one or more of the following items: race/ethnicity, sexual behavior, and sexual orientation. Each survey will have a core set of items asked in all rounds, as well as a module of questions relating to specific AAA activities and communication initiatives.

Survey respondents will be selected from a combination of sources, including a national opt-in email list sample and respondent lists generated by partnership organizations (e.g., the National Urban League, the National Medical Association). A total of 10,750 participants will self-administer the survey at home on personal computers over a 3-year period.

There is no cost to the respondents other than their time.

Estimated Annualized Burden Hours
Respondents | Form name | Number of respondents | Number of responses per respondent | Average burden per response (in hours) | Total burden (in hours)
Individuals (male and female) aged 18 years and older | Study Screener | 17,915 | 1 | 2/60 | 597
Individuals (male and female) aged 18 years and older | Survey Module | 3,583 | 1 | 30/60 | 1,792
Total |  |  |  |  | 2,389

Leroy A. Richardson,
Chief, Information Collection Review Office, Office of Scientific Integrity, Office of the Associate Director for Science, Office of the Director, Centers for Disease Control and Prevention.

[FR Doc. 2014-27467 Filed 11-19-14; 8:45 am]

BILLING CODE 4163-18-P